DEPARTMENT OF ENERGY

Federal Energy Regulatory Commission

[Docket No. EL07-74-000]

Intermountain Rural Electric Association, Complainant v. Public Service Company of Colorado, Respondent; Notice of Complaint

June 21, 2007.

Take notice that on June 20, 2007, pursuant to Rule 218 of the Federal Energy Regulatory Commission's (Commission) Rules and Practice and Procedure and sections 206 and 306 of the Federal Power Act, 16 U.S.C. 824e and 825e, Intermountain Rural Electric Association (Complainant) filed a formal complaint against the Public Service Company of Colorado (Respondent), alleging that it believes (1) That it is being charged unjust and unreasonable rates for distribution losses under the provisions of the Second Restated and Amended Power Purchase Agreement (PPA), Second Revised Rate Schedule No. 51, Xcel Energy Services, Inc., Docket No. ER05-1248-000; and (2) the Respondent has unilaterally increased the distribution loss percentage without filing with or the approval of the Commission.

The Complainant is requesting the Commission to order the Respondent to (1) Refund, with interest, all amounts unlawfully charged by the Respondent to the Complainant under its PPA; (2) confirm to the Respondent may not modify the distribution loss percentage, or any other aspect of the PPA, without filing for and obtaining the Commission's acceptance under section 205 of the Federal Power Act, U.S.C. 824d, and under section 5 of the Rate Schedule A of the PPA, Second Revised Sheet No. 20, the Respondent cannot make any such filing with the Commission that would result in an increase to the Complainant's base rates to become effective prior to January 1, 2009.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 10, 2007.

Kimberly D. Bose,
Secretary.

[FR Doc. E7-12480 Filed 6-27-07; 8:45 am]

BILLING CODE 6717-01-P